FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
January 1, 2013 thru January 31, 2013
01/02/2013
20130454 | G | Gores Capital Partners III, L.P.; Harris Corporation; Gores Capital Partners III, L.P.
20130455 | G | Charlesbank Equity Find VII, Limited Partnership; Francois Pinault; Charlesbank Equity Find VII, Limited Partnership.
20130459 | G | C. Park Shaper; Kinder Morgan, Inc.; C. Park Shaper.
20130462 | G | Donata Holding SE; Caribou Coffee Company, Inc.; Donata Holding SE.
20130472 | G | Gestion Audem Inc.; PEER 1 Network Enterprises, Inc.; Gestion Audem Inc.
01/03/2013
20130468 | G | EQT Infrastructure II Limited Partnership; Westway Group Inc.; EQT Infrastructure II Limited Partnership.
20130474 | G | Sheridan Production Partners II-B, L.P.; SandRidge Energy, Inc.; Sheridan Production Partners II-B, L.P.
01/04/2013
20130479 | G | The Medicines Company; Bristol-Myers Squibb Company; The Medicines Company.
20130481 | G | Temasek Holdings (Private) Limited; FTS International, Inc.; Temasek Holdings (Private) Limited.
01/05/2013
20121423 | S | Wang Jian; Complete Genomics, Inc.; Wang Jian.
01/07/2013
20130413 | G | priceline.com Incorporated; Kayak Software Corporation; priceline.com Incorporated.
20130414 | G | Elliott Associates. L.P.; Compuware Corporation; Elliott Associates, L.P.
20130460 | G | Liberty Spinco, Inc.; Barnes & Noble, Inc.; Liberty Spinco, Inc.
20130463 | G | Liberty Spinco, Inc.; Live Nation Entertainment, Inc.; Liberty Spinco, Inc.
20130464 | G | Gregory B. Maffei; Liberty Spinco, Inc.; Gregory B. Maffei.
20130465 | G | Robert R. Bennett; Liberty Spinco, Inc.; Robert R. Bennett.
20130466 | G | John C. Malone; Liberty Spinco, Inc.; John C. Malone.
01/08/2013
20130477 | G | The Toronto-Dominion Bank; Epoch Holding Corporation; The Toronto-Dominion Bank.
20130484 | G | Hewlett-Packard Company; Digital Risk, LLC; Hewlett-Packard Company.
20130486 | G | Trident IV, L.P.; GWC Co-Investment Partners, L.P.; Trident IV, L.P.
20130488 | G | Sentara Healthcare; Halifax Regional Health System, Inc.; Sentara Healthcare.
01/09/2013
20121265 | G | DigitalGlobe, Inc.; GeoEye, Inc.; DigitalGlobe, Inc.
20121339 | G | Cerberus Institutional Partners, L.P.; DigitalGlobe, Inc.; Cerberus Institutional Partners, L.P.
01/11/2013
20130492 | Y | Spectra Energy Corp.; Express US Holdings LP; Spectra Energy Corp.
01/14/2013
20130470 | G | Trident Private Holdings I, LLC; TNS, Inc.; Trident Private Holdings I, LLC.
20130473 | G | Oracle Corporation; Eloqua, Inc.; Oracle Corporation.
20130483 | G | Clayton, Dubilier & Rice Fund VIII, L.P.; Invacare Corporation; Clayton, Dubilier & Rice Fund VIII, L.P.
01/17/2013
20130461 | G | W.R. Berkley Corporation; Dermond API LLC; W.R. Berkley Corporation.
01/18/2013
20130505 | G | Seven & i Holdings Co., Ltd.; Patrick B. O'Dell; Seven & i Holdings Co., Ltd.
01/22/2013
20130490 | G | Heraeus Holding GmbH; Spectris plc; Heraeus Holding GmbH.
20130501 | G | Hormel Foods Corporation; Unilever N.V.; Hormel Foods Corporation.
20130509 | G | Markel Corporation; Alterra Capital Holdings Limited; Markel Corporation.
20130518 | G | The Laclede Group, Inc.; Energy Transfer Equity, L.P.; The Laclede Group, Inc.
01/24/2013
20130506 | G | The Varde Fund X (Master), L.P.; FirstCity Financial Corporation; The Varde Fund X (Master), L.P.
01/25/2013
20130519 | G | Dakota Holding Corporation; Duff & Phelps Corporation; Dakota Holding Corporation.
20130526 | G | Summit Midstream Partners, LLC; GSO Capital Opportunities Fund LP; Summit Midstream Partners, LLC.
01/28/2013
20130497 | G | Mohawk Industries, Inc.; Emanuela Verlicchi, c/o Finceramica S.p.; Mohawk Industries, Inc.
20130498 | G | Mohawk Industries, Inc.; Rosaria Marazzi; Mohawk Industries, Inc.
01/29/2013
20130513 | G | Carl C. Icahn; Transocean Ltd.; Carl C. Icahn.
01/30/2013
20130525 | G | Alamos Gold Inc.; Aurizon Mines Ltd.; Alamos Gold Inc.
20130539 | G | Mitsubishi Chemical Holdings Corporation; Carlyle Japan Partners, L.P.; Mitsubishi Chemical Holdings Corporation.

FOR FURTHER INFORMATION CONTACT: Renee Chapman, Contact Representative, or Theresa Kingsberry, Legal Assistant, Federal Trade Commission, Premerger Notification Office, Bureau Of Competition, Room H-303, Washington, DC 20580, (202) 326-3100.

By Direction of the Commission.
Donald S. Clark,
Secretary.

[FR Doc. 2013-03458 Filed 2-14-13; 8:45 am]

BILLING CODE 6750-01-M